DEPARTMENT OF VETERANS AFFAIRS

[OMB Control No. 2900-NEW]

Agency Information Collection Activity Under OMB Review: Program of Comprehensive Assistance for Family Caregivers

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Comments must be submitted on or before November 26, 2018.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-NEW” in any correspondence.

FOR FURTHER INFORMATION CONTACT: Brian McCarthy, National Policy (10B4), Department of Veterans Affairs, 810 Vermont Avenue NW, Washington, DC 20420, (202) 615-9241 or email Brian.McCarthy4@va.gov. Please refer to “OMB Control No. 2900-NEW” in any correspondence.

SUPPLEMENTARY INFORMATION: Authority: Public Law 111-163; 38 U.S.C., Part I, Chapter 5, Section 527.

Title: Program of Comprehensive Assistance for Family Caregivers (PCAFC).

OMB Control Number: 2900-NEW.

Type of Review: New collection.

Abstract: Public Law 111-163, Caregivers and Veterans Omnibus Health Services Act of 2010 authorized the Department of Veteran Affairs to implement the Program of Comprehensive Assistance for Family Caregivers (PCAFC). The resultant data from the individual Veteran and caregiver satisfaction surveys will be used to inform VA with an overall gauge of satisfaction with PCAFC participants and will assist in the identification of possible future program improvements. The surveys will solicit voluntary opinions and are not intended to collect information required to obtain or maintain eligibility for a Department of Veterans Affairs (VA) program or benefit.

An agency may not conduct or sponsor, and a person is not required to respond to a collection of information unless it displays a currently valid OMB control number. The Federal Register Notice with a 60-day comment period soliciting comments on this collection of information was published at 83 FR 28350 on June 18, 2018, page 28350.

Affected Public: Individuals and households.

Estimated Annual Burden:

Veteran Survey: 6,750 hours.

Caregiver Survey: 7,000 hours.

Estimated Average Burden per Respondent:

Veteran Survey: 15 minutes.

Caregiver Survey: 15 minutes.

Frequency of Response: Once.

Estimated Number of Respondents:

Veteran Survey: 27,000.

Caregiver Survey: 28,000.

By direction of the Secretary.
Cynthia D. Harvey-Pryor,
Government Information Specialist, Department of Veterans Affairs.

[FR Doc. 2018-23298 Filed 10-24-18; 8:45 am]

BILLING CODE 8320-01-P